DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, February 15 and February 16, 2006, in Weaverville, California. On February 15, the council members will convene at 10 a.m. at the Weaverville Victorian Inn, 1609 Main St., Weaverville and depart immediate for a field tour of the Weaverville Community Forest and the Weaverville lumber mill. Members of the public are welcome. They must provide their own transportation and lunch. On February 16, the business meeting convenes at 8 a.m. in the Conference Room of the Weaverville Victorian Inn. Time for public comment has been reserved for 1 p.m.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will a review and discussion of the council's previous recommendation on recreation fees, an update from the Shasta Cascade Wonderland Association on efforts to form a Sacramento River National Recreation Area, an update on the federal energy bill, a status report on the Draft Ukiah Resource Management Plan, and an update on the proposed Salmon Creek Resources land exchange. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: November 29, 2005.
Joseph J. Fontana,
Public Affairs Officer.

[FR Doc. E5-6865 Filed 12-5-05; 8:45 am]

BILLING CODE 4310-40-P